DEPARTMENT OF THE INTERIOR

Bureau of Land Management

[LLUT980300-L11200000-PH0000-24-1A]

Notice of Utah's Resource Advisory Council Conference Call Meeting

AGENCY: Bureau of Land Management, Interior.

ACTION: Notice of Conference Call Meeting.

SUMMARY: In accordance with the Federal Land Policy and Management Act and the Federal Advisory Committee Act, the Bureau of Land Management's (BLM) Utah Resource Advisory Council (RAC) will host a conference call meeting.

DATES: The Utah RAC will host a conference call meeting Thursday, May 16, 2013, from 10:00 a.m.-noon, MST.

ADDRESSES: Those attending in person must meet at the BLM, Utah State Office, 440 West 200 South, Salt Lake City, Utah, in the Monument Conference Room on the fifth floor. The conference call will be recorded for purposes of minute-taking.

FOR FURTHER INFORMATION CONTACT: If you wish to listen to the teleconference, orally present material during the teleconference, or submit written material for the Council to consider during the teleconference, notify Sherry Foot, Special Programs Coordinator, Bureau of Land Management, Utah State Office, 440 West 200 South, Suite 500, Salt Lake City, Utah 84101; phone 801-539-4195; or, sfoot@blm.gov by Friday, May 10, 2013.

SUPPLEMENTARY INFORMATION: The RAC formed a subgroup to look at ways to constructively suggest improvements to the BLM-Utah National Landscape Conservation System Strategy. Results of their findings will be presented to the BLM-Utah and the RAC. A public comment period will take place immediately following the presentation. The meeting is open to the public; however, transportation, lodging, and meals are the responsibility of the participating individuals.

Approved:
Jenna Whitlock,
Associate State Director.

[FR Doc. 2013-09109 Filed 4-17-13; 8:45 am]

BILLING CODE 4310-DQ-P